DEPARTMENT OF HOMELAND SECURITY

Coast Guard

[Docket No. USCG-2011-1098]

National Offshore Safety Advisory Committee; Vacancies

AGENCY: Coast Guard, DHS.

ACTION: Request for applications.

SUMMARY: The Coast Guard seeks applications for membership on the National Offshore Safety Advisory Committee. This Committee advises the Secretary of the Department of Homeland Security on matters and actions concerning activities directly involved with or in support of the exploration of offshore mineral and energy resources insofar as they relate to matters within Coast Guard jurisdiction.

DATES: Applicants should submit a cover letter and resume in time to reach the Alternate Designated Federal Officer (ADFO) on or before March 30, 2012.

ADDRESSES: Applicants should send their cover letter and resume to the following address: Commandant (CG-5222), Attn: Vessel and Facility Operations Standards, U.S. Coast Guard, 2100 Second Street SW., STOP 7126, Washington, DC 20593-7126; or by calling (202) 372-1386; or by faxing (202) 372-1926; or by emailing to Kevin.Y.Pekarek2@uscg.mil.

This notice, is available in our online docket, USCG-2011-1098, at http://www.regulations.gov.

FOR FURTHER INFORMATION CONTACT: Kevin Y. Pekarek, Assistant Designated Federal Officer (ADFO) of National Offshore Safety Advisory Committee (NOSAC); telephone (202) 372-1386; fax (202) 372-1926; or email at Kevin.Y.Pekarek2@uscg.mil.

SUPPLEMENTARY INFORMATION: The National Offshore Safety Advisory Committee (NOSAC) is a Federal advisory committee under 5 U.S.C. App. (Pub. L. 92-463). It was established under authority of Title 6 U.S.C. section 451 and advises the Secretary of Homeland Security on matters and actions concerning activities directly involved with or in support of the exploration of offshore mineral and energy resources insofar as they relate to matters within Coast Guard jurisdiction.

The Committee usually meets two times a year, approximately every six months.

We will consider applications for five positions that will become vacant on January 31, 2013.

(a) One member representing employees of companies engaged in offshore operations, who should have recent practical experience on vessels or offshore units involved in the offshore mineral and energy industry;

(b) One member representing Diving Services related to offshore construction, inspection and maintenance;

(c) One member representing the Deepwater Port interests;

(d) One member representing Pipe Laying services related to offshore construction; and,

(e) One member representing the General Public, who will serve as a Special Government Employee (SGE) as defined in 202(a) of Title 18, United States Code. SGE's must submit financial disclosure forms, which are available from the ADFO, upon request.

To be eligible, applicants for positions (a-d) should have expertise and/or knowledge and experience regarding the technology, equipment and techniques that are used or are being developed for use in the exploration for, and the recovery of, offshore mineral resources.

Registered lobbyists are not eligible to serve on federal advisory committees. Registered lobbyists are lobbyists required to comply with provisions contained in the Lobbying Disclosure Act of 1995 (Pub. L. 104-65, as amended). Each NOSAC Committee member serves a term of office of up to three years. Members may be considered to serve consecutive terms. All members serve at their own expense and receive no salary or reimbursement of travel expenses, or other compensation from the Federal Government.

In support of the Coast Guard policy on gender and ethnic nondiscrimination, we encourage qualified men and women of all racial and ethnic groups to apply. The Coast Guard values diversity; all the different characteristics and attributes of persons that enhance the mission of the Coast Guard.

If you are interested in applying to become a member of the Committee, send your cover letter and resume to Kevin Y. Pekarek, ADFO of NOSAC at Commandant (CG-5222)/NOSAC, U.S. Coast Guard, 2100 Second Street SW., STOP 7126, Washington, DC 20593-7126. Send your cover letter and resume in time for it to be received by the ADFO on or before March 30, 2012.

To visit our online docket, go to http://www.regulations.gov, enter the docket number for this notice (USCG-2011-1098) in the Search box, and click “Go.” Please do not post your resume on this site.

Dated: January 20, 2012.
J. G. Lantz,
Director of Commercial Regulations and Standards.

[FR Doc. 2012-1878 Filed 1-27-12; 8:45 am]

BILLING CODE 9110-04-P